DEPARTMENT OF THE INTERIOR

National Park Service

[N6800; NPS-WASO-NAGPRA-NPS0041746; PPWOCRADN0-PCU00RP14.R50000]

Notice of Intended Repatriation: Turtle Bay Exploration Park, Redding, CA

AGENCY: National Park Service, Interior.

ACTION: Notice.

SUMMARY: In accordance with the Native American Graves Protection and Repatriation Act (NAGPRA), the Turtle Bay Exploration Park (TBEP) intends to repatriate certain cultural items that meet the definition of objects of cultural patrimony and that have a cultural affiliation with the Indian Tribes or Native Hawaiian organizations in this notice.

DATES: Repatriation of the cultural items in this notice may occur on or after February 12, 2026.

ADDRESSES: Send additional, written requests for repatriation of the cultural items in this notice to Julia Cronin, Turtle Bay Exploration Park, 844 Sundial Bridge Drive, Redding, CA 96001, email jcronin@turtlebay.org.

SUPPLEMENTARY INFORMATION: This notice is published as part of the National Park Service's administrative responsibilities under NAGPRA. The determinations in this notice are the sole responsibility of Turtle Bay Exploration Park, and additional information on the determinations in this notice, including the results of consultation, can be found in the summary or related records. The National Park Service is not responsible for the determinations in this notice.

Abstract of Information Available

A total of 146 cultural items have been requested for repatriation. These objects of cultural patrimony include 99 baskets, 31 archaeological objects, 12 beaded items, two lots of arrows, one bow, and one book. All items have been appraised, reviewed by scholars, and discussed in consultation. They originate from or are attributable to the Pit River Tribe, including the Ajumawi or Atsugewi (two of the eleven autonomous bands of the Pit River Tribe), based on documentation, maker attribution, or archaeological context. Archaeological items derive solely from Shasta and Lassen Counties, within the homelands of the Pit River Tribe.

Between 1963 and 2019, the Redding Museum of Art and History (RMAH), TBEP's predecessor, acquired a large basketry collection through donations and purchases, reflecting a long-standing institutional focus on Northern California Indian baskets. In 1963, RMAH purchased four baskets from Fred Taber, whose father operated an antique shop in Shasta County and collected Indigenous belongings. That year, Jean Beauchamp donated a cooking basket from the Royal T. Sprague Collection, and in 1965, Eleanor Parkin donated a bottle basket. Carolyn Bond donated three basket fragments in 1974, a cradle basket toy in 1975, 10 baskets in 2014 from the Fred Taber, Elizabeth Burnham, and Essie Alford Collections, and two miniature baskets in 2017, including one made by Lucinda Hunt of Shasta County. In 1975, RMAH purchased a cradle basket from Mr. and Mrs. Argo, originally collected by Minnie Miranda Hart Wellman. In 1976, RMAH purchased three baskets from Don Boyd, including a cradle basket made by Selina LaMar. That year, Ruth Lemm Martin donated a footed compote basket documented as a gift to Louisa Lemm from a Native employee.

Additional acquisitions include two baskets from Earl “Butch” Wheeler in 1977 (one purchased, one donated); one purchased from the Alice B. Davis Collection in 1978; one donated by Jim Dotta in 1979; and one purchased from Cora Wilson in 1980 made by Boquita Wilson. Between 1981 and 1982, RMAH purchased three baskets from V. Lovell, six from Thelma Shiplet, and one from Bill Kemp, with makers including Boquita Wilson and Selina LaMar. Between 1985 and 2000, RMAH/TBEP acquired 14 baskets from the James Collection (ten purchased, four donated), assembled by Florence Payne James and later inherited by Gertrude Kelly, as well as seven baskets donated by the Yocum family, collected by William and Mary Yocum of Butte County. Later acquisitions include one basket donated by Dena Enloe; two donated by Robert and Mabel Smith from the 1920s collection of Ada Smith Chaplin; 16 baskets from Kenneth Walker and later Blair (Walker) and Gerald Stratford; one donated by Barbara G. Anderson; one donated by Jane Bonner; nine donated by Bea Roberts from the pre-1920s Baum Collection; three donated by Jack Hauenstein; and one basket purchased from James Flaxbeard. In 1992, through a collections transfer agreement with the Shasta Historical Society, RMAH assumed stewardship of additional baskets, including a storage basket donated by Theresa Barbera Poore, and two undocumented baskets identified during the transfer.

RMAH acquired archaeological items through donations between 1976 and 1984. In 1976, Don Boyd donated one lot of projectile points and an obsidian biface, all surface finds or excavated items. In 1978, Jim Dotta donated a black slate atlatl weight from Eagle Lake (surface find). Following his passing in 1982, Dotta's family donated additional items from Montgomery Creek, including projectile point fragments, debitage, a glass fragment, and an obsidian fragment from McArthur, all surface finds or excavated items. Lona E. Hampe donated 18 projectile points, one scraper, and one stone tool, all surface finds, from Crystal Lake Hatchery and Eagle Lake. Additional archaeological objects include a metate donated by Herbert Gilman in 1981 from a surface find near Bieber, an abalone pendant donated by Shirley Evans in 1983 from a surface find on the Pit River, and a mortar found near Hat Creek around 1900 and donated in 1984.

Beaded items and other belongings include a miniature beaded moccasin donated by Don Boyd in 1976, a beaded necklace donated by Mary V. White in 1979, and three beaded items donated by LaDiem Clineschmidt in 1985 (a purse, pant strip, and belt). All are traceable to the Ajumawi band or Pit River Tribe. In 2014, Carolyn Bond donated five Ajumawi beaded items, three from Little Valley makers Connie Brown and Agnes McClellan, acquired from the Essie Alford Collection. Bond later donated two additional beaded watch fobs. A previous collections transfer with the Shasta Historical Society included stewardship of a beaded belt and a beaded watch fob, both of Pit River origin, donated by an individual with the surname Zetsche.

Additional belongings include a bow and two lots of arrows made by Henry Wool, a Pit River man, given to Baird Dobrowsky by Ollie Cathcart of the Bruce family and donated in 1980. In 1981, the City of Redding purchased, Indian Tales by Jaime DeAngulo, for RMAH's reference library.

Turtle Bay Exploration Park does not treat Indigenous belongings with hazardous materials. However, prior treatment documentation does not exist for items before entering the Redding Museum of Art and History.

Determinations

Turtle Bay Exploration Park has determined that:

• The 146 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Pit River Tribe, California (includes XL Ranch, Big Bend, Likely, Lookout, Montgomery Creek, and Roaring Creek Rancherias).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 12, 2026. If competing requests for repatriation are received, Turtle Bay Exploration Park must determine the most appropriate requestor prior to repatriation. Requests for joint repatriation of the cultural items are considered a single request and not competing requests. The Turtle Bay Exploration Park is responsible for sending a copy of this notice to the Indian Tribes and Native Hawaiian organizations identified in this notice and to any other consulting parties.

Authority: Native American Graves Protection and Repatriation Act, 25 U.S.C. 3004 and the implementing regulations, 43 CFR 10.9.

Dated: January 5, 2026.
Melanie O'Brien,
Manager, National NAGPRA Program.

[FR Doc. 2026-00460 Filed 1-12-26; 8:45 am]

BILLING CODE 4312-52-P